DEPARTMENT OF TRANSPORTATION

Federal Aviation Administration

14 CFR Part 71

[Docket No. FAA-2022-0712; Airspace Docket No. 22-ACE-1]

RIN 2120-AA66

Proposed Amendment and Revocation of Multiple Air Traffic Service (ATS) Routes; Establishment of Area Navigation (RNAV) Route; and Revocation of the Pawnee City, NE, Low Altitude Reporting Point in the Vicinity of Pawnee City, NE

AGENCY: Federal Aviation Administration (FAA), DOT.

ACTION: Notice of proposed rulemaking (NPRM).

SUMMARY: This action proposes to amend Jet Route J-64; amend VHF Omnidirectional Range (VOR) Federal airways V-50, V-71, V-216, and V-307; amend Area Navigation (RNAV) route T-286; establish RNAV route T-468; and revoke J-130, J-192, V-553, and the Pawnee City, NE, low altitude reporting point. The FAA is proposing this action due to the planned decommissioning of the VOR portion of the Pawnee City, NE, VOR/Tactical Air Navigation (VORTAC) navigational aid (NAVAID). The Pawnee City VOR is being decommissioned in support of the FAA's VOR Minimum Operational Network (MON) program.

DATES: Comments must be received on or before July 25, 2022.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2022-0712; Airspace Docket No. 22-ACE-1 at the beginning of your comments. You may also submit comments through the internet at https://www.regulations.gov.

FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-0712 Airspace; Docket No. 22-ACE-1) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2022-0712; Airspace Docket No. 22-ACE-1.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Parkway, Fort Worth, TX 76177.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Background

The FAA is planning to decommission the Pawnee City, NE, VOR in February 2023. The Pawnee City VOR was one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Pawnee City, NE, VORTAC is planned for decommissioning, the co-located Distance Measuring Equipment (DME) portion of the NAVAID is being retained to support NextGen PBN flight procedure requirements.

The air traffic service (ATS) routes effected by the Pawnee City VOR decommissioning are Jet Routes J-64, J-130, and J-192; VOR Federal airways V-50, V-71, V-216, V-307, and V-553; and RNAV route T-286. With the planned decommissioning of the Pawnee City VOR, the remaining ground-based NAVAID coverage in the area is insufficient to enable the continuity of the affected ATS routes. As such, proposed modifications to J-64, V-71, and V-216 would result in a gap being created in the ATS routes; to V-50 and V-307 would result in the airways being shortened; and to T-286 would result in one route point being changed and one route point being removed from the description, without affecting the route structure. Additionally, proposed actions to J-130, J-192, V-553, and the Pawnee City, NE, low altitude reporting point would result in the ATS routes and low altitude reporting point being revoked.

To overcome the proposed modifications and revocations to the affected ATS routes, instrument flight rules (IFR) traffic could use portions of adjacent ATS routes, including Jet Routes J-21, J-25, J-41, J-60, J-80, and J-146 in the high altitude enroute structure and V-77, V-159, and V-532 in the low altitude enroute structure, or receive air traffic control (ATC) radar vectors to fly around or through the affected area. Pilots equipped with RNAV capabilities could also navigate using Q-90 and Q-136 in the high altitude enroute structure; T-286, T-411, or T-468 being established in the low altitude enroute structure; or point to point using the existing NAVAIDs and fixes that would remain in place to support continued operations though the affected area. Visual flight rules (VFR) pilots who elect to navigate via the affected ATS routes could also take advantage of the adjacent ATS routes or ATC services listed previously.

Additionally, the FAA proposes to amend the T-286 RNAV route by replacing the Pawnee City, NE, VORTAC with a waypoint (WP) being established in close proximity of the Pawnee City VORTAC, as well as removing an unnecessary fix from the route description, and extending the existing T-286 RNAV route northward to the FONIA, ND, Fix.

The FAA also proposes to establish RNAV route T-468 between the Hill City, KS, VORTAC and the LEWRP, MO, WP located near the Kirksville, MO, area. The new T-route would, in part, mitigate the proposed removal of the V-216 airway segment affected by the planned Pawnee City VOR decommissioning, reduce ATC sector workload and complexity, and reduce pilot-to-controller communication. The new T-route also would provide RNAV equipped aircraft an ATS route alternative and support the FAA's NextGen efforts to modernize the NAS navigation system from a ground-based system to a satellite-based system.

Finally, the Pawnee City, NE, low altitude reporting point would no longer be required by ATC after the Pawnee City VOR is decommissioned and the proposed route amendments implemented; hence, the reporting point is proposed to be removed as well.

The Proposal

The FAA is proposing an amendment to 14 CFR part 71 to amend Jet Route J-64; amend VOR Federal airways V-50, V-71, V-216, and V-307; amend RNAV route T-286; establish RNAV route T-468; and revoke J-130, J-192, V-553, and the Pawnee City, NE, low altitude reporting point. The ATS route and reporting point amendments and revocations are due to the planned decommissioning of the Pawnee City, NE, VOR. The proposed ATS route and low altitude reporting point actions are described below.

J-64: J-64 currently extends between the Los Angeles, CA, VORTAC and the intersection of the Ravine, PA, VORTAC 102° and Lancaster, PA, VOR/Distance Measuring Equipment (VOR/DME) 044° radials (SARAA Fix). The FAA proposes to remove the route segment overlying the Pawnee City, NE, VORTAC between the Hill City, KS, VORTAC and the Lamoni, IA, VOR/DME. The unaffected portions of the existing route would remain as charted.

J-130: J-130 currently extends between the Mc Cook, NE, VOR/DME and the Pawnee City, NE, VORTAC. The FAA proposes to remove the route in its entirety.

J-192: J-192 currently extends between the Goodland, KS, VORTAC and the Iowa City, IA, VOR/DME. The FAA proposes to remove the route in its entirety.

V-50: V-50 currently extends between the Hastings, NE, VOR/DME and the Dayton, OH, VOR/DME. The FAA proposes to remove the airway segment overlying the Pawnee City VORTAC between the Hastings, NE, VOR/DME and the St Joseph, MO, VORTAC. The unaffected portions of the existing airway would remain as charted.

V-71: V-71 currently extends between the Fighting Tiger, LA, VORTAC and the O'Neill, NE, VORTAC; and between the Pierre, SD, VORTAC and the Williston, ND, VOR/DME. The FAA proposes to remove the airway segment overlying the Pawnee City VORTAC between the Topeka, KS, VORTAC and the Lincoln, NE, VORTAC. The unaffected portions of the existing airway would remain as charted.

V-216: V-216 currently extends between the Lamar, CO, VOR/DME and the Janesville, WI, VOR/DME. The FAA proposes to remove the airway segment overlying the Pawnee City VORTAC between the Mankato, KS, VORTAC and the Lamoni, IA, VOR/DME. The unaffected portions of the existing airway would remain as charted.

V-307: V-307 currently extends between the Chanute, KS, VORTAC and the Omaha, IA, VORTAC. The FAA proposes to remove the airway segment overlying the Pawnee City VORTAC between the Emporia, KS, VORTAC and the Omaha, IA, VORTAC. The unaffected portion of the existing airway would remain as charted.

V-553: V-553 currently extends between the Salina, KS, VORTAC and the Pawnee City, KS, VORTAC. The FAA proposes to remove the airway in its entirety.

T-286: T-286 currently extends between the Rapid City, SD, VORTAC and the BOWLR, KS, Fix. The FAA proposes to replace the Pawnee City, NE, VORTAC with the HTHWY, NE, WP being established in close proximity of the Pawnee City VORTAC; remove the EFFEX, NE, Fix from the route description since it does not denote a route turn point; and extend the route northward to the FONIA, ND, Fix via the JELRO, SD, Fix and the Dickenson, ND, VORTAC. The amended route would provide RNAV routing between the Williston, ND, area and the Atchison, KS, area. The full RNAV T-route description is listed in “The Proposed Amendment” section, below.

T-468: T-468 is a new RNAV route proposed to extend between the Hill City, KS, VORTAC and the LEWRP, MO, WP. This new T-route would provide RNAV routing from the Hill City, KS, area eastward to the Kirksville, MO, area via the KNSAS, KS, WP being established and the Lamoni, IA, VOR/DME. The full RNAV T-route description is listed in “The Proposed Amendment” section, below.

Pawnee City, NE: The FAA proposes to remove the Pawnee City, NE, low altitude reporting point as it would no longer be required by ATC as a result of the Pawnee City VOR being decommissioned.

All NAVAID radials listed in the ATS route descriptions below are unchanged and stated in True degrees.

Jet Routes are published in paragraph 2004, VOR Federal airways are published in paragraph 6010(a), RNAV T-routes are published in paragraph 6011, and Domestic Low Altitude Reporting Points are published in paragraph 7001 of FAA Order JO 7400.11F, dated August 10, 2021, and effective September 15, 2021, which is incorporated by reference in 14 CFR 71.1. The ATS routes and reporting point listed in this document would be published subsequently in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 2004 Jet Routes.

* * * * *

J-64 [Amended]

From Los Angeles, CA; INT Los Angeles 083° and Hector, CA, 226° radials; Hector; Peach Springs, AZ; Tuba City, AZ; Rattlesnake, NM; Pueblo, CO; to Hill City, KS. From Lamoni, IA; Bradford, IL; INT Bradford 089° and Fort Wayne, IN, 280° radials; Fort Wayne; Ellwood City, PA; Ravine, PA; to INT Ravine 102° and Lancaster, PA, 044° radials.

* * * * *

J-130 [Removed]

* * * * *

J-192 [Removed]

* * * * *

Paragraph 6010(a) Domestic VOR Federal Airways.

* * * * *

V-50 [Amended]

From St. Joseph, MO; Kirksville, MO; Quincy, IL; Spinner, IL; Adders, IL; Terre Haute, IN; Brickyard, IN; to Dayton, OH.

* * * * *

V-71 [Amended]

From Fighting Tiger, LA; Natchez, MS; Monroe, LA; El Dorado, AR; Hot Springs, AR; INT Hot Springs 358° and Harrison, AR, 176° radials; Harrison; Springfield, MO; Butler, MO; to Topeka, KS. From Lincoln, NE; Columbus, NE; to O'Neill, NE. From Pierre, SD; Bismarck, ND; to Williston, ND.

* * * * *

V-216 [Amended]

From Lamar, CO; Hill City, KS; to Mankato, KS. From Lamoni, IA; Ottumwa, IA; Iowa City, IA; INT Iowa City 062° and Janesville, WI, 240° radials; to Janesville.

* * * * *

V-307 [Amended]

From Chanute, KS; to Emporia, KS.

* * * * *

V-553 [Removed]

* * * * *

Paragraph 6011 United States Area Navigation Routes.

* * * * *

T-286 FONIA, ND to BOWLR, KS [Amended]
FONIA, ND | FIX | (Lat. 48°15′35.07″ N, long. 103°10′37.54″ W)
Dickinson, ND (DIK) | VORTAC | (Lat. 46°51′36.14″ N, long. 102°46′24.60″ W)
JELRO, SD | FIX | (Lat. 45°48′43.83″ N, long. 102°51′46.96″ W)
Rapid City, SD (RAP) | VORTAC | (Lat. 43°58′33.74″ N, long. 103°00′44.38″ W)
Gordon, NE (GRN) | NDB | (Lat. 42°48′03.90″ N, long. 102°10′45.82″ W)
Thedford, NE (TDD) | VOR/DME | (Lat. 41°58′53.99″ N, long. 100°43′08.52″ W)
BOKKI, NE | FIX | (Lat. 41°39′54.99″ N, long. 099°52′17.00″ W)
Grand Island, NE (GRI) | VOR/DME | (Lat. 40°59′02.50″ N, long. 098°18′53.20″ W)
HTHWY, NE | WP | (Lat. 40°12′01.96″ N, long. 096°12′22.51″ W)
Robinson, KS (RBA) | DME | (Lat. 39°51′03.00″ N, long. 095°25′23.00″ W)
BOWLR, KS | FIX | (Lat. 39°37′21.29″ N, long. 095°11′00.26″ W)
* * * * * * *
T-468 Hill City, KS (HLC) to LEWRP, MO [New]
Hill City, KS (HLC) | VORTAC | (Lat. 39°15′31.49″ N, long. 100°13′33.06″ W)
KNSAS, KS | WP | (Lat. 39°48′22.62″ N, long. 098°15′36.62″ W)
Lamoni, IA (LMN) | VOR/DME | (Lat. 40°35′48.35″ N, long. 093°58′03.33″ W)
LEWRP, MO | WP | (Lat. 40°08′06.06″ N, long. 092°35′30.15″ W)

Paragraph 7001 Domestic Low Altitude Reporting Points.

* * * * *

Pawnee City, NE [Removed]

* * * * *

Issued in Washington, DC, on June 3, 2022.
Scott M. Rosenbloom,
Manager, Airspace Rules and Regulations.

[FR Doc. 2022-12322 Filed 6-8-22; 8:45 am]

BILLING CODE 4910-13-P